DEPARTMENT OF AGRICULTURE

Forest Service

Oregon Coast Provincial Advisory Committee Meeting

AGENCY: Forest Service, USDA.

ACTION: Notice of meeting.

SUMMARY: The Oregon Coast Provincial Advisory Committee (PAC) will meet at the Florence Convention & Performing Arts Center, at 715 Quince Street, Florence, OR, on October 26, 2000. The meeting will begin at 9 a.m. and end at 4 p.m. The agenda will include 303-D Listed Streams, public comments, and round-robin information sharing. Two fifteen-minute open public forums are scheduled at 11:30 a.m. and 3:45 p.m. Interested citizens are encouraged to attend. The committee welcomes the publics' written comments on committee business at any time.

FOR FURTHER INFORMATION CONTACT: Joni Quarnstrom, Public Affairs Specialist, Siuslaw National Forest, 541/750-7075 or write to Acting Forest Supervision, Siuslaw National Forest, P.O. Box 1148, Corvallis, OR 97339.

Dated: October 3, 2000.
Y. Robert Iwamoto,
Acting Forest Supervisor.

[FR Doc. 00-26468 Filed 10-13-00; 8:45 am]

BILLING CODE 3410-11-M